NUCLEAR REGULATORY COMMISSION

[NRC-2011-0006]

Sunshine Federal Register Notice

Agency Holding The Meetings: Nuclear Regulatory Commission.

DATE: Week of September 5, 2011.

PLACE: Commissioners' Conference Room, 11555 Rockville Pike, Rockville, Maryland.

STATUS: Public and Closed.

ADDITIONAL ITEMS TO BE CONSIDERED:

Week of September 5, 2011

Friday, September 9, 2011

11:30 a.m. Affirmation Session (Public Meeting) (Tentative)

a. Petitions Requesting Relief Related to the March 11, 2011, Earthquake and Tsunami Events in Fukushima, Japan (Tentative)

b. Nuclear Innovation North America LLC (South Texas Project, Units 3 and 4), Staff Petition for Review of LBP-11-7 (Tentative)

* * * * *

* The schedule for Commission meetings is subject to change on short notice. To verify the status of meetings, call (recording)-(301) 415-1292. Contact person for more information: Rochelle Bavol, (301) 415-1651.

* * * * *

The NRC Commission Meeting Schedule can be found on the Internet at: http://www.nrc.gov/about-nrc/policy-making/schedule.html

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: September 2, 2011.
Richard J. Laufer,
Technical Coordinator, Office of the Secretary.

[FR Doc. 2011-23074 Filed 9-6-11; 11:15 am]

BILLING CODE 7590-01-P